DEPARTMENT OF HOMELAND SECURITY

Federal Emergency Management Agency

44 CFR Part 65

[Docket No. FEMA-B-7722]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Mitigation Assistant Administrator of FEMA reconsider the changes. The modified BFEs may be changed during the 90-day period.

ADDRESSES: The modified BFEs for each community are available for inspection at the office of the Chief Executive Officer of each community. The respective addresses are listed in the table below.

FOR FURTHER INFORMATION CONTACT: William R. Blanton, Jr., Engineering Management Section, Mitigation Directorate, Federal Emergency Management Agency, 500 C Street SW., Washington, DC 20472, (202) 646-3151.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by the other Federal, State, or regional entities. The changes BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Arkansas: Lonoke | City of Ward (07-06-1213P) | May 17, 2007, May 24, 2007, Lonoke Democrat | The Honorable Art Brook, Mayor, City of Ward, P.O. Box 237, Ward, AR 72176 | April 30, 2007 | 050372
California:
Riverside | City of Murrieta (07-09-0801P) | May 24, 2007, May 31, 2007, The Californian | The Honorable Douglas R. McAllister, Mayor, City of Murrieta, 26442 Beckman Court, Murrieta, CA 92562 | August 30, 2007 | 060751
Riverside | City of Palm Springs (07-09-0588P) | May 3, 2007, May 10, 2007, The Press-Enterprise | The Honorable Ron Oden, Mayor, City of Palm Springs, 3200 East Tahquitz Canyon Way, Palm Springs, CA 92262 | August 9, 2007 | 060257
San Diego | City of Vista (07-09-0589P) | May 24, 2007, May 31, 2007, San Diego Transcript | The Honorable Morris Vance, Mayor, City of Vista, P.O. Box 1988, Vista, CA 92085 | August 30, 2007 | 060297
Colorado:
El Paso | City of Colorado Springs (06-08-B643P) | May 23, 2007, May 30, 2007, El Paso County Advertiser and News | The Honorable Lionel Rivera, Mayor, City of Colorado Springs, P.O. Box 1575, Colorado Springs, CO 80901 | August 29, 2007 | 080060
El Paso | Unincorporated areas of El Paso County (06-08-B643P) | May 23, 2007, May 30, 2007, El Paso County Advertiser and News | The Honorable Dennis Hisey, Chairman, El Paso County, Board of Commissioners, 27 East Vermijo Avenue, Colorado Springs, CO 80903 | August 29, 2007 | 080059
El Paso | Unincorporated areas of El Paso County (07-08-0044P) | May 16, 2007, May 23, 2007, El Paso County Advertiser and News | The Honorable Dennis Hisey, Chairman, El Paso County Board of Commissioners, 27 East Vermijo Avenue, Colorado Springs, CO 80903 | August 22, 2007 | 080059
Delaware: New Castle | Unincorporated areas of New Castle County (07-03-0213P) | May 18, 2007, May 25, 2007, Newark Post | Mr. Christopher Koons, County Executive, New Castle County, 87 Read's Way, New Castle, DE 19720 | August 24, 2007 | 105085
Florida:
Charlotte | Unincorporated areas of Charlotte County (07-04-0469P) | May 24, 2007, May 31, 2007, Charlotte Sun | The Honorable Thomas G. Moore, Chairman, Charlotte County Board of Commissioners, 18500 Murdock Circle, Port Charlotte, FL 33948 | April 27, 2007 | 120061
Collier | City of Naples (07-04-2297P) | May 24, 2007, May 31, 2007, Naples Daily News | The Honorable Bill Barnett, Mayor, City of Naples, 735 Eighth Street South, Naples, FL 34102 | April 27, 2007 | 125130
Manatee | Unincorporated areas of Manatee County (06-04-C664P) | May 24, 2007, May 31, 2007, Bradenton Herald | The Honorable Amy E. Stein, Chairman, Manatee County Board of Commissioners, P.O. Box 1000, Bradenton, FL 34206 | August 30, 2007 | 120153
Walton | City of Freeport (07-04-3565X) | May 17, 2007, May 24, 2007, Northwest Florida Daily News | The Honorable J. Mickey Marse, Mayor, City of Freeport, P.O. Box 339 , Freeport, FL 32439 | April 30, 2007 | 120319
Illinois:
Cook | Village of Tinley Park (06-05-C262P) | May 17, 2007, May 24, 2007, Daily Herald | The Honorable Edward J. Zabrocki, Mayor, Village of Tinley Park, 16250 South Oak Park Avenue, Tinley Park, IL 60477 | April 25, 2007 | 170169
Cook | Unincoporated areas of Cook County (06-05-C262P) | May 17, 2007, May 24, 2007, Daily Herald | The Honorable Todd H. Stroger, President, Cook County Board of Supervisors, 118 North Clark Street, Room 537, Chicago, IL 60602 | April 25, 2007 | 170054
Kane | City of Batavia (06-05-BP93P) | May 10, 2007, May 17, 2007, Kane County Chronicle | The Honorable Jeffery Schielke, Mayor, City of Batavia, 100 North Island Avenue, Batavia, IL 60510 | May 16, 2007 | 170321
Kane | City of St. Charles (07-05-0398P) | May 24, 2007, May 31, 2007, Press Republican | The Honorable Donald P. DeWitte, Mayor, City of St. Charles, Two East Main Street, St. Charles, IL 60174 | August 30, 2007 | 170330
Kane | Unincorporated areas of Kane County (06-05-BP93P) | May 10, 2007, May 17, 2007, Kane County Chronicle | The Honorable Karen McConnaughay, County Board Chairman, Kane County, 719 South Batavia Avenue, Building A, Geneva, IL 60134 | May 16, 2007 | 170896
Lake | Village of Hawthorn Woods (07-05-2482P) | May 24, 2007, May 31, 2007, Lake County News Sun | The Honorable Keith Hunt, Mayor, Village of Hawthorn Woods, Two Lagoon Drive, Hawthorn Woods, IL 60047 | May 30, 2007 | 170366
Indiana:
DeKalb | City of Butler (07-05-2078P) | May 8, 2007, May 15, 2007, The Butler Bulletin | The Honorable Floyd Coburn, Mayor, City of Butler, 201 South Broadway, Butler, IN 46706 | August 14, 2007 | 180047
DeKalb | Unincorporated areas of DeKalb County (07-05-2078P) | May 8, 2007, May 15, 2007, The Butler Bulletin | The Honorable William C. Ort, Chairman, De Kalb County Board of Commissioners, 100 South Main Street, Auburn, IN 46706 | August 14, 2007 | 180044
Kansas: Butler | City of Andover (07-07-0419P) | May 24, 2007, May 31, 2007, The El Dorado Times | The Honorable Ben Lawrence, Mayor, City of Andover, 909 North Andover Road, Andover, KS 67002 | April 27, 2007 | 200383
Minnesota: Dakota | City of Burnsville (07-05-0873P) | May 24, 2007, May 31, 2007, Burnsville Sun-Current | The Honorable Elizabeth Kautz, Mayor, City of Burnsville, 100 Civic Center Parkway, Burnsville, MN 55337 | August 30, 2007 | 270102
Ohio:
Fairfield | City of Lancaster (07-05-1581P) | April 26, 2007, May 3, 2007, Lancaster Eagle-Gazette | The Honorable David S. Smith, Mayor, City of Lancaster, 104 East Main Street, Lancaster, OH 43130 | August 2, 2007 | 390161
Fairfield | Unincorporated areas of Fairfield County (07-05-1581P) | April 26, 2007, May 3, 2007, Lancaster Eagle-Gazette | The Honorable Judy Shupe, Chairman, Fairfield County Board of Commissioners, 210 East Main Street, Room 301, Lancaster, OH 43130 | August 2, 2007 | 390158
Stark | City of North Canton (07-05-0382P) | May 10, 2007, May 17, 2007, The Repository | The Honorable David J. Held, Mayor, City of North Canton, 145 North Main Street, North Canton, OH 44720 | April 12, 2007 | 390521
Warren | City of Springboro (07-05-0652P) | April 19, 2007, April 26, 2007, The Pulse-Journal | The Honorable John Agenbroad, Mayor, City of Springboro, 1255 South Main Street, Springboro, OH 45066 | July 26, 2007 | 390564
Warren | Unincorporated areas of Warren County (07-05-0652P) | April 19, 2007, April 26, 2007, The Pulse-Journal | The Honorable C. Michael Kilburn, President, Warren County, Board of Commissioners, 406 Justice Drive, Lebanon, OH 45036 | July 26, 2007 | 390757
Oklahoma:
Cleveland | City of Moore (07-06-1131P) | May 3, 2007, May 10, 2007, The Norman Transcript | The Honorable Glenn Lewis, Mayor, City of Moore, 301 North Broadway, Moore, OK 73160 | May 18, 2007 | 400044
Cleveland | City of Norman (06-06-B933P) | May 17, 2007, May 24, 2007, The Norman Transcript | The Honorable Harold Haralson, Mayor, City of Norman, P.O. Box 370, Norman, OK 73070 | May 25, 2007 | 400046
Tulsa and Wagoner | City of Broken Arrow (06-06-BH69P) | May 10, 2007, May 17, 2007, The Tulsa World | The Honorable Richard Carter, Mayor, City of Broken Arrow, P.O. Box 610, Broken Arrow, OK 74013 | August 16, 2007 | 400236
Pennsylvania:
Blair | Township of Snyder (07-03-0770P) | May 24, 2007, May 31, 2007, Altoona Mirror | The Honorable Charles Diehl, Chairman, Snyder Township Board of Supervisors, Township Building R.D.3, Tyrone, PA 16686 | April 30, 2007 | 421393
Blair | Borough of Tyrone (07-03-0770P) | May 24, 2007, May 31, 2007, Altoona Mirror | Mr. George Mason, Borough Manager, Borough of Tyrone, 1100 Logan Avenue, Tyrone, PA 16686 | April 30, 2007 | 420164
Centre | Township of Ferguson (07-03-0218P) | May 3, 2007, May 10, 2007, Centre Daily Times | The Honorable Richard Mascolo, Chairman, Board of Supervisors, Township of Ferguson, 3147 Research Drive, State College, PA 16801 | August 9, 2007 | 420260
Puerto Rico: Puerto Rico | Commonwealth of Puerto Rico (06-02-B001P) | May 17, 2007, May 24, 2007, The San Juan Star | The Honorable Anibal Acevedo-Vila, Governor of the Commonwealth of Puerto Rico, P.O. Box 82, La Fortaleza, San Juan, PR 00901 | August 23, 2007 | 720000
Texas:
Bexar | City of San Antonio (07-06-0242P) | May 17, 2007, May 24, 2007, Daily Commercial Recorder | The Honorable Phil Hardberger, Mayor, City of San Antonio, P.O. Box 839966, San Antonio, TX 78283 | April 30, 2007 | 480045
Collin | City of Melissa (07-06-0946P) | May 17, 2007, May 24, 2007, McKinney Courier-Gazette | The Honorable David Dorman, Mayor, City of Melissa, 901 State Highway 121, Melissa, TX 75454 | August 23, 2007 | 481626
Collin | City of Plano (07-06-0506P) | May 17, 2007, May 24, 2007, Plano Star Courier | The Honorable Pat Evans, Mayor, City of Plano, P.O. Box 860358, Plano, TX 75086-0358 | August 23, 2007 | 480140
Cooke | City of Gainesville (06-06-BH22P) | May 24, 2007, May 31, 2007, Gainesville Daily Register | The Honorable Glenn Loch, Mayor, City of Gainesville, 200 South Rusk Street, Gainesville, TX 76240 | August 30, 2007 | 480154
Denton | City of Lewisville (07-06-0282P) | May 16, 2007, May 23, 2007, Lewisville Leader | The Honorable Gene Carey, Mayor, City of Lewisville, P.O. Box 299002 , Lewisville, TX 75029 | April 30, 2007 | 480195
Travis | Unincorporated areas of Travis County (07-06-0283P) | May 17, 2007, May 24, 2007, Austin American-Statesman | The Honorable Samuel T. Biscoe, Travis County Judge, P.O. Box 1748, Austin, TX 78767 | August 23, 2007 | 481026
Wichita | City of Wichita Falls (07-06-0210P) | May 17, 2007, May 24, 2007, Wichita Falls Times/Record News | The Honorable Lanham Lyne, Mayor, City of Wichita Falls, P.O. Box 1431, Wichita Falls, TX 76307 | May 30, 2007 | 480662
Virginia: Loudoun | Town of Leesburg (07-03-0584P) | May 16, 2007, May 23, 2007, Loudoun Times Mirror | The Honorable Kristen C. Umstattd, Mayor, Town of Leesburg, P.O. Box 88, Leesburg, VA 20178 | April 27, 2007 | 510091

(Catalog of Federal Domestic Assistance No. 97.022, “Flood Insurance.”)

Dated: July 3, 2007.
David I. Maurstad,
Federal Insurance Administrator of the National Flood Insurance Program, Department of Homeland Security, Federal Emergency Management Agency.

[FR Doc. E7-13618 Filed 7-12-07; 8:45 am]

BILLING CODE 9110-12-P